DEPARTMENT OF DEFENSE

Department of the Air Force

HQ USAF Scientific Advisory Board

AGENCY: Department of the Air Force, DoD.

ACTION: Notice of meeting.

SUMMARY: Pursuant to Public Law 92-463, notice is hereby given of the forthcoming meeting of the Unmanned Aerial Vehicles Panel. The purpose of the meeting is to brief the Air Staff and the Joint Staff on the results of the study. This meeting will be closed to the public.

DATES: 1 October 2003.

ADDRESSES: SAFTAS Conference Facility, 4th Floor, 1560 Wilson Boulevard, Arlington, VA 22209.

FOR FURTHER INFORMATION CONTACT: Maj Dwight Pavek, Air Force Scientific Advisory Board Secretariat, 1180 Air Force Pentagon, Rm 5D982, Washington DC 20330-1180, (703) 697-4811.

Pamela D. Fitzgerald,
Air Force Federal Register Liaison Officer.

[FR Doc. 03-23210 Filed 9-11-03; 8:45 am]

BILLING CODE 5001-5-P